NUCLEAR REGULATORY COMMISSION

[Docket No. 50-0395; NRC-2014-0271]

South Carolina Electric & Gas Company; Virgil C. Summer Nuclear Station, Unit 1

AGENCY: Nuclear Regulatory Commission.

ACTION: License amendment application; withdrawal by applicant.

SUMMARY: The U.S. Nuclear Regulatory Commission (NRC) has granted the request of South Carolina Electric & Gas Company to withdraw its application dated November 12, 2014, for a proposed amendment to Renewed Facility Operating License NPF-12. The proposed amendment would have revised the Virgil C. Summer Nuclear Station, Unit 1, Radiation Emergency Plan to relocate the Technical Support Center.

ADDRESSES: Please refer to Docket ID NRC-2014-0271 when contacting the NRC about the availability of information regarding this document. You may obtain publicly-available information related to this document using any of the following methods:

• Federal Rulemaking Web site: Go to http://www.regulations.gov and search for Docket ID NRC-2014-0271. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Shawn Williams, Office of Nuclear Reactor Regulation, U.S. Nuclear Regulatory Commission, Washington, DC 20555-0001; telephone: 301-415-1009, email: Shawn.Williams@nrc.gov.

SUPPLEMENTARY INFORMATION: The NRC has granted the request of South Carolina Electric & Gas Company (the licensee) to withdraw its application date November 12, 2014, (ADAMS Accession No. ML14324A217), for a proposed amendment to Renewed Facility Operating License NPF-12 for the Virgil C. Summer Nuclear Station, Unit 1, located in Jenkinsville, SC.

The proposed amendment sought to revise the Virgil C. Summer Nuclear Station, Unit 1, Radiation Emergency Plan to relocate the Technical Support Center.

The NRC published a Biweekly Notice in the Federal Register on December 23, 2014 (79 FR 77050), that gave notice that this proposed amendment was under consideration by the NRC. The licensee submitted its request to withdraw the proposed amendment on July 21, 2015 (ADAMS Accession No. ML15205A033).

Dated at Rockville, Maryland, this 6th day of August, 2015.
For the Nuclear Regulatory Commission.
G. Edward Miller,
Acting Chief, Plant Licensing Branch II-1, Division of Operating Reactor Licensing, Office of Nuclear Reactor Regulation.

[FR Doc. 2015-19851 Filed 8-11-15; 8:45 am]

BILLING CODE 7590-01-P